POSTAL SERVICE

Sunshine Act Meeting; Board of Governors

TIME AND DATE: Thursday, May 6, 2021, at 10:00 a.m.; and Friday, May 7, 2021, at 9:00 a.m.

PLACE: Washington, DC, at U.S. Postal Service Headquarters, 475 L'Enfant Plaza, SW, in the Benjamin Franklin Room.

STATUS: Thursday, May 6, 2021, at 10:00 a.m.—Closed; Friday, May 7, 2021, at 9:00 a.m.—Open.

MATTERS TO BE CONSIDERED:

Thursday, May 6, 2021, at 10:00 a.m. (Closed)

1. Strategic Issues.

2. Financial and Operational Matters.

3. Compensation and Personnel Matters.

4. Administrative Items.

Friday, May 7, 2021, at 9:00 a.m. (Open)

1. Remarks of the Chairman of the Board of Governors.

2. Remarks of the Postmaster General and CEO.

3. Approval of Minutes of Previous Meetings.

4. Committee Reports.

5. Quarterly Financial Report.

6. Quarterly Service Performance Report.

7. Approval of Tentative Agendas for August Meetings.

CONTACT PERSON FOR MORE INFORMATION: Michael J. Elston, Secretary of the Board, U.S. Postal Service, 475 L'Enfant Plaza SW, Washington, DC 20260-1000. Telephone: (202) 268-4800.

Michael J. Elston,
Secretary.

[FR Doc. 2021-08941 Filed 4-26-21; 11:15 am]

BILLING CODE 7710-12-P